DEPARTMENT OF HEALTH AND HUMAN SERVICES

Centers for Disease Control and Prevention (CDC)

CDC/HRSA Advisory Committee on HIV and STD Prevention and Treatment

In accordance with section 10(a)(2) of the Federal Advisory Committee Act (Pub. L. 92-463), CDC and HRSA, announces the following meeting of the aforementioned committee:

Times and Dates: 8 a.m.-5 p.m., May 20, 2008; 8 a.m.-12:30 p.m., May 21, 2008.

Place: JW Marriott Buckhead, 3300 Lenox Road, Atlanta, Georgia 30326, Telephone (404) 262-3344, Fax (404) 262-8689.

Status: Open to the public, limited only by the space available. The meeting room will accommodate approximately 100 people.

Purpose: This Committee is charged with advising the Director, CDC and the Administrator, HRSA, regarding activities related to prevention and control of HIV/AIDS and other STDs, the support of health care services to persons living with HIV/AIDS, and education of health professionals and the public about HIV/AIDS and other STDs.

Matters To Be Discussed: Agenda items include issues pertaining to (1) Hepatitis C in the United States: Prevention, Surveillance, Treatment and Care Issues; (2) CDC Division of Sexual Transmitted Diseases Prevention, External Research Review Recommendations and Plans for Response; (3) Elimination of Health Disparities—CDC's Heightened National Response and CDC's Response to HIV/AIDS among African American Men Having Sex with Men; and (4) CDC's New Integrated Partner Counseling and Referral Services Guidelines.

Agenda items are subject to change as priorities dictate.

Contact Person for More Information: Margie Scott-Cseh, Committee Management Specialist, CDC, Strategic Business Unit, 1600 Clifton Road, NE., Mailstop E-07, Atlanta, Georgia 30333. Telephone (404) 639-8317, Fax (404) 639-8910.

The Director, Management Analysis and Services Office, has been delegated the authority to sign Federal Register Notices pertaining to announcements of meetings and other committee management activities, for both the Centers for Disease Control and Prevention and the Agency for Toxic Substances and Disease Registry.

Dated: April 11, 2008.
Elaine L. Baker,
Director, Management Analysis and Services Office, Centers for Disease Control and Prevention.

[FR Doc. E8-8475 Filed 4-18-08; 8:45 am]

BILLING CODE 4163-18-P